JUDICIAL CONFERENCE OF THE UNITED STATES

Meeting of the Judicial Conference Advisory Committee on Rules of Evidence

AGENCY: Advisory Committee on Rules of Evidence, Judicial Conference of the United States.

ACTION: Revised notice of open meeting.

SUMMARY: The Advisory Committee on Rules of Evidence will hold a meeting on April 26-27, 2018. The meeting will be open to public observation but not participation. An agenda and supporting materials will be posted at least 7 days in advance of the meeting at: http://www.uscourts.gov/rules-policies/records-and-archives-rules-committees/agenda-books. The announcement for this meeting was previously published in the Federal Register on February 5, 2018.

DATES: April 26-27, 2018.

Time: April 26—3:00 p.m. to 5:30 p.m.; April 27—9:00 a.m. to 5:00 p.m.

ADDRESSES: Thurgood Marshall Federal Judiciary Building, Mecham Conference Center, Administrative Office of the United States Courts, One Columbus Circle NE, Washington, DC 20544.

FOR FURTHER INFORMATION CONTACT: Rebecca A. Womeldorf, Rules Committee Secretary, Rules Committee Staff, Administrative Office of the United States Courts, Washington, DC 20544, telephone (202) 502-1820.

Dated: February 28, 2018.
Rebecca A. Womeldorf,
Rules Committee Secretary.

[FR Doc. 2018-04470 Filed 3-5-18; 8:45 am]

BILLING CODE 2210-55-P